POSTAL SERVICE

Privacy Act of 1974; System of Records

AGENCY: Postal Service.

ACTION: Notice of proposal to revise system of records.

SUMMARY: The Postal Service proposes to revise the existing system of records entitled, “Office of Inspector General—Investigative File System, 300.010”, originally published in the Federal Register on October 15, 1998 (63 FR 55416). This system of records, maintained by the Postal Service Office of Inspector General (OIG), is being revised to comply with newly enacted requirements in section 6(e)(7) of the Inspector General Act of 1978. A new routine use will be added to allow disclosure of information, as necessary, to authorized members of the President's Council on Integrity and Efficiency (PCIE) and other Inspector General Offices, which on a periodic basis will conduct a peer review of OIG investigative files and practices to assess and report on the quality of OIG investigations.

DATES: The revision will become effective without further notice 30 days from the date of this publication unless comments are received on or before that date which result in a contrary determination.

ADDRESSES: Comments may be mailed or delivered to: Marta Erceg, Director, Legal Services, Office of Inspector General, 1735 N. Lynn Street, Arlington, Virginia 22209-2020.

SUPPLEMENTARY INFORMATION: This notice is in accordance with the Privacy Act requirement that agencies publish their amended systems of records in the Federal Register when there is a revision, change, or addition.

The new section 6(e)(7) of the Inspector General Act (effective in 2003) requires establishment of a peer review process to ensure that “adequate internal safeguards and management procedures continue to exist within [Offices of Inspector General].” The OIG has reviewed Postal Service system of records 300.010 and has determined that it must be revised to add a routine use in order to comply with the requirement that each Office of Inspector General subject itself to periodic peer reviews of its exercise of law enforcement powers.

The objectives of the peer review are to assess whether Office of Inspector General investigative programs have adequate internal safeguards and management procedures, foster high-quality investigations and investigative processes, ensure that the highest levels of professionalism are maintained, and promote consistency in investigative standards and practices within the Inspector General investigative community.

Under the review process, the exercise of the law enforcement powers by each Office of Inspector General shall be reviewed periodically by another Office of Inspector General or by a committee of Inspectors General. The added routine use will allow disclosure of information from OIG investigative files to members of the PCIE and to other Federal Offices of Inspector General, as necessary, for the purpose of conducting such qualitative assessment reviews of the OIG's investigative operations.

Accordingly, the Postal Service is adding the following routine use to the existing system of records:

USPS 300.010

SYSTEM NAME:

Office of Inspector General—Investigative File System, 300.010.

* * * * *

ROUTINE USES OF RECORDS MAINTAINED IN THE SYSTEM, INCLUDING CATEGORIES OF USERS AND PURPOSES OF SUCH USES:

* * * * *

Other routine uses are as follows:

* * * * *

*

12. A record may be disclosed to other Federal Offices of Inspector General and/or to the President's Council on Integrity and Efficiency for purposes of conducting qualitative assessment reviews of internal safeguards and management procedures employed in investigative operations of the Office of Inspector General.

Stanley F. Mires,
Chief Counsel, Legislative.

[FR Doc. 04-4203 Filed 2-20-04; 3:31 pm]

BILLING CODE 7710-12-P